DEPARTMENT OF ENERGY

Federal Energy Regulatory Commission

[Docket No. PR09-33-000]

Kinder Morgan Border Pipeline LLC; Notice of Petition for Rate Approval

October 7, 2009.

Take notice that on September 29, 2009, Kinder Morgan Border Pipeline LLC (KM Border) filed a petition for rate approval pursuant to section 284.123(b)(2) of the Commission's regulation. KM Border requests the Commission to approve the continuation of its existing rates, which are: (1) A two part maximum firm transportation rate for service on its Import/Export Facility consisting of a demand charge of $2.2381 per MMBtu of reserved Maximum Daily Transportation Quantity, and a commodity charge of $0.00 per MMBtu of gas transported; (2) a maximum interruptible rate of $0.0736 per MMBtu of gas transported on its Import/Export Facility; (3) a two-part maximum firm transportation rate for service on capacity leased from other intrastate pipelines consisting of a demand a charge $1.5208 per MMBtu of reserved Maximum Daily Transportation Quantity and a commodity charge of $0.00 per MMBtu of gas transported; and (4) a maximum interruptible rate of $0.05 per MMBtu of gas transported on such leased capacity.

KM Border further proposes to continue to retain as reimbursement for compressor fuel varying amounts ranging from 0.57 percent to 1.55 percent, depending on the Points of Redelivery used. KM Border states that the foregoing existing zone rates will, if approved by the Commission, be applicable to firm and interruptible transportation services provided by KM Border pursuant to section 311(a)(2) of the Natural Gas Policy Act through the pipeline owned and operated by KM Border (The Import/Export Facility), and through pipeline capacity leased by KM Border (The Leased Capacity).

The Import/Export Facility consist of approximately 97 mile of 24-inch pipeline that extends from a point of interconnection in Hidalgo County, Texas, with the pipeline facilities of PEMEX Gas and Petroquimica Basica at the International Border between the United States and Mexico to a point of interconnection with the intrastate pipeline facilities of Kinder Morgan Tejas Pipeline LLC (KM Tejas) located on the King Ranch, Kleberg County, Texas. The Leased Capacity is capacity leased on the intrastate pipeline facilities of KM Tejas.

Any person desiring to participate in this rate proceeding must file a motion to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on Friday, October 16, 2009.

Kimberly D. Bose,
Secretary.

[FR Doc. E9-24798 Filed 10-14-09; 8:45 am]

BILLING CODE 6717-01-P